CONSUMER PRODUCT SAFETY COMMISSION

Petition Requesting Standard for Bunk Bed Cornerposts

AGENCY: Consumer Product Safety Commission.

ACTION: Notice.

SUMMARY: The Commission has received a petition (CP-03-1/ HP-03-1) requesting that the Commission establish a standard for bunk bed cornerposts. The Commission solicits written comments concerning the petition.

DATES: The Office of the Secretary must receive comments on the petition by January 7, 2003.

ADDRESSES: Comments, preferably in five copies, on the petition should be mailed to the Office of the Secretary, Consumer Product Safety Commission, Washington, DC 20207, telephone (301) 504-0800, or delivered to the Office of the Secretary, Room 501, 4330 East-West Highway, Bethesda, Maryland 20814. Comments may also be filed by telefacsimile to (301) 504-0127 or by email to cpsc-os@cpsc.gov. Comments should be captioned “Petition CP-03-1/HP-03-1, Petition on Bunk Bed Cornerposts.” A copy of the petition is available for inspection at the Commission's Public Reading Room, Room 419, 4330 East-West Highway, Bethesda, Maryland, and on the Commission's website at http://www.cpsc.gov.

FOR FURTHER INFORMATION CONTACT: Rockelle Hammond, Office of the Secretary, Consumer Product Safety Commission, Washington, DC 20207; telephone (301) 504-0800, ext. 1232.

SUPPLEMENTARY INFORMATION: The Commission has received correspondence from the Danny Foundation requesting that the Commission establish a standard to address the hazard of strangulation posed by bunk bed cornerposts. The Commission is docketing this request as a petition under the Consumer Product Safety Act, 15 U.S.C. 2057, and the Federal Hazardous Substances Act, 15 U.S.C. 1261(q)(1)(A). The petitioner asserts that, due to the height of bunk beds, cornerposts on bunk beds pose a substantial risk to children when their clothing, bedding or other items become caught on the cornerposts. In such circumstances, children can hang from the caught item and die. The petitioner states that such incidents have resulted in fourteen deaths to American children since 1993.

Interested parties may obtain a copy of the petition by writing or calling the Office of the Secretary, Consumer Product Safety Commission, Washington, DC 20207; telephone (301) 504-0800. Copies of the petition are also available for inspection from 8:30 a.m. to 5 p.m., Monday through Friday, in the Commission's Public Reading Room, Room 419, 4330 East-West Highway, Bethesda, Maryland, or from the Commission's website at http://www.cpsc.gov.

Dated: November 4, 2002.
Todd Stevenson,
Secretary, Consumer Product Safety Commission.

[FR Doc. 02-28420 Filed 11-7-02; 8:45 am]

BILLING CODE 6355-01-P